DEPARTMENT OF HOMELAND SECURITY

U.S. Customs And Border Protection

Agency Information Collection Activities: Importation Bond Structure

AGENCY: U.S. Customs and Border Protection, Department of Homeland Security.

ACTION: 30-day notice and request for comments; Extension and revision of an existing information collection: 1651-0050.

SUMMARY: U.S. Customs and Border Protection (CBP) of the Department of Homeland Security will be submitting the following information collection request to the Office of Management and Budget (OMB) for review and approval in accordance with the Paperwork Reduction Act: Importation Bond Structure. This is a proposed extension and revision of an information collection that was previously approved. CBP is proposing that this information collection be extended with a change to the burden hours and to CBP Form 301. This document is published to obtain comments from the public and affected agencies. This proposed information collection was previously published in the Federal Register (75 FR 50772) on August 17, 2010, allowing for a 60-day comment period. One comment was received. This notice allows for an additional 30 days for public comments. This process is conducted in accordance with 5 CFR 1320.10.

DATES: Written comments should be received on or before December 9, 2010.

ADDRESSES: Interested persons are invited to submit written comments on this proposed information collection to the Office of Information and Regulatory Affairs, Office of Management and Budget. Comments should be addressed to the OMB Desk Officer for Customs and Border Protection, Department of Homeland Security, and sent via electronic mail to oira_submission@omb.eop.gov or faxed to (202) 395-5806.

SUPPLEMENTARY INFORMATION: U.S. Customs and Border Protection (CBP) encourages the general public and affected Federal agencies to submit written comments and suggestions on proposed and/or continuing information collection requests pursuant to the Paperwork Reduction Act (Pub. L. 104-13). Your comments should address one of the following four points:

(1) Evaluate whether the proposed collection of information is necessary for the proper performance of the functions of the agency/component, including whether the information will have practical utility;

(2) Evaluate the accuracy of the agencies/components estimate of the burden of the proposed collection of information, including the validity of the methodology and assumptions used;

(3) Enhance the quality, utility, and clarity of the information to be collected; and

(4) Minimize the burden of the collections of information on those who are to respond, including the use of appropriate automated, electronic, mechanical, or other technological techniques or other forms of information.

Title: Importation Bond Structure.

OMB Number: 1651-0050.

Form Numbers: 301 and 5297.

Abstract: Bonds are used to assure that duties, taxes, charges, penalties, and reimbursable expenses owed to the Government are paid; to facilitate the movement of cargo and conveyances through CBP processing; and to provide legal recourse for the Government for noncompliance with laws and regulations. Any person who is required to post a bond to secure a customs transaction usually submits the bond on CBP Form 301, Customs Bond, to CBP.

CBP proposes to revise CBP Form 301 in order to accurately reflect the changes that have occurred with regard to CBP bonds. Specifically, the revised Form 301 will capture the new types of bonds which have been authorized by law and regulation, as well as better harmonize this form with current and future automation system requirements. Section II of the CBP Form 301 will be revised to specifically cover continuous activity code bonds for Importer Security Filing, Marine Terminal Operator, and Intellectual Property Rights Samples.

In accordance with public comments received, CBP also proposes to make the following changes to Form 301:

(1) Remove the phrase from Section II of the form “1a may be checked independently or with 1, and” because these activity codes should not be combined.

(2) In Section II of Form 301, replace the term “Single Entry Bond” with the term “Single Transaction Bond”, in each place it appears, in order to accommodate transactions that are not entries.

(3) In Section III of Form 301, replace the term “Importer Name”, in each place it appears, with the term “Name” to accommodate parties other than importers that use Form 301.

(4) In Section III of Form 301, replace the term “Importer Number”, in each place it appears, with the term “Identification Number” in order to include all the types of filing numbers listed in 19 CFR 24.5.

(5) Delete the term “Form 5297” in both Footnote 8 and Footnote 9 of Form 301 so that it does not exclude electronic filing of the information.

(1) Create a continuation sheet for Form 301.

Bonds are usually executed by an agent of the surety. The surety company grants authority to the agent via CBP Form 5297, Corporate Surety Power of Attorney. Once this form is filed with CBP, the validity of the authority of the agent executing the bond and the name of the surety can be verified to the surety's grant. The trade community now has the ability to submit the information on CBP Form 5297 via the Internet by using the Automated Commercial Environment (ACE) portal. ACE surety portal account access allows sureties to add, revoke, and change their surety agent powers of attorney electronically. The ACE account is available to any surety who applies for the functionality at http://www.cbp.gov. CBP Forms 301 and 5297 are accessible at http://www.cbp.gov/xp/cgov/toolbox/forms/.

Current Actions: This submission is being made to extend the expiration date with a change to the burden hours based on revised estimates by CBP. CBP also proposes to revise CBP Form 301 as specified in the “Abstract Section” of this notice.

Type of Review: Extension (with change).

Affected Public: Businesses.

Form 301, Customs Bond

Estimated Number of Respondents: 800,000.

Total Number of Estimated Annual Responses: 800,000.

Estimated time per Response: 15 minutes.

Estimated Total Annual Burden Hours: 200,000.

Form 5297, Corporate Surety Power of Attorney

Estimated Number of Respondents: 500.

Total Number of Estimated Annual Responses: 500.

Estimated time per Response: 15 minutes.

Estimated Total Annual Burden Hours: 125.

If additional information is required contact: Tracey Denning, U.S. Customs and Border Protection, Regulations and Rulings, Office of International Trade, 799 9th Street, NW., 5th Floor, Washington, DC 20229-1177, at 202-325-0265.

Dated: November 3, 2010.
Tracey Denning,
Agency Clearance Officer, U.S. Customs and Border Protection.

[FR Doc. 2010-28213 Filed 11-8-10; 8:45 am]

BILLING CODE 9111-14-P